DEPARTMENT OF COMMERCE

National Oceanic and Atmospheric Administration

[I.D. 050306D]

Pacific Fishery Management Council; Public Meeting

AGENCY: National Marine Fisheries Service (NMFS), National Oceanic and Atmospheric Administration (NOAA), Commerce.

ACTION: Notice of a public meeting.

SUMMARY: The Pacific Fishery Management Council's (Council) Highly Migratory Species Management Team (HMSMT) will hold a work session on May 30,2006, via telephone conference call, which is open to the public.

DATES: The HMSMT work session will be held on Tuesday, May 30, 2006, from 12 noon to 3 p.m., Pacific Time

ADDRESSES: The work session will be held via telephone conference call. Interested members of the public may contact Dr. Kit Dahl for information on how to participate.

FOR FURTHER INFORMATION CONTACT: Dr. Kit Dahl, Pacific Fishery Management Council; telephone: (503) 820-2280.

SUPPLEMENTARY INFORMATION: The purpose of this HMSMT work session is to review any exempted fishing permit (EFP) applications for HMS fisheries received by the Council for the 2007 fishing year (which begins April 1, 2007) that have not been reviewed to date. According to Council operating procedures, applications must be received at least two weeks prior to the June Council meeting and a deadline of 5 p.m. on May 26, 2006, has been set for such receipt. Based on their review and discussion at this meeting, the HMSMT will prepare a written report with advice to the Council. If no applications are received by this date the HMSMT teleconference meeting will be cancelled and no HMSMT report will be prepared.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Authority: 16 U.S.C. 1801 et seq.

Dated: May 9, 2006.
Tracey L. Thompson,
Acting Director, Office of Sustainable Fisheries, National Marine Fisheries Service.

[FR Doc. E6-7418 Filed 5-15-06; 8:45 am]

BILLING CODE 3510-22-S